DEPARTMENT OF ENERGY

Excess Uranium Management: Effects of DOE Transfers of Excess Uranium on Domestic Uranium Mining, Conversion, and Enrichment Industries; Request for Information

AGENCY: Office of Nuclear Energy, Department of Energy.

ACTION: Extension of comment period.

SUMMARY: On July 19, 2016, the U.S. Department of Energy (DOE) published a request for information (RFI) seeking comment on certain issues related to DOE's preparation for a potential new Secretarial Determination covering continued transfers of uranium for cleanup services at the Portsmouth Gaseous Diffusion Plant and for down-blending of highly-enriched uranium to low-enriched uranium. The RFI established an August 18, 2016 deadline for the submission of written comments. DOE is extending the comment period to September 19, 2016.

DATES: DOE will accept comments, data, and information responding to this RFI submitted on or before September 19, 2016.

ADDRESSES: Interested persons may submit comments by any of the following methods.

1. Email: RFI-UraniumTransfers@hq.doe.gov. Submit electronic comments in Microsoft Word or PDF and avoid the use of special characters or any form of encryption.

2. Postal Mail: Ms. Cheryl Moss Herman, U.S. Department of Energy, Office of Nuclear Energy, Mailstop NE-52, 19901 Germantown Rd., Germantown, MD 20874-1290. If possible, please submit all items on a compact disk (CD), in which case it is not necessary to include printed copies.

3. Hand Delivery/Courier: Ms. Cheryl Moss Herman, U.S. Department of Energy, Office of Nuclear Energy, Mailstop NE-52, B-409, 19901 Germantown Rd., Germantown, MD 20874-1290. Phone: (301) 903-1788. If possible, please submit all items on a CD, in which case it is not necessary to include printed copies.

Instructions: All submissions received must include the agency name for this request for information. No facsimiles (faxes) will be accepted.

FOR FURTHER INFORMATION CONTACT: Ms. Cheryl Moss Herman, U.S. Department of Energy, Office of Nuclear Energy, Mailstop NE-52, B-409, 19901 Germantown Rd., Germantown, MD 20874-1290. Phone: (301) 903-1788. Email: Cheryl.Moss_Herman@Nuclear.Energy.Gov.

SUPPLEMENTARY INFORMATION: On July 19, 2016, the U.S. Department of Energy (DOE) published a request for information (RFI) in the Federal Register (81 FR 46917). DOE noted that it is preparing for a potential new Secretarial Determination covering continued transfers of uranium for cleanup services at the Portsmouth Gaseous Diffusion Plant and for down-blending of highly-enriched uranium to low-enriched uranium. The RFI solicited information about the uranium markets and domestic uranium industries, potential effects of the proposed transfers in the uranium markets and possible consequences for the domestic uranium mining, conversion, and enrichment industries. The RFI established an August 18, 2016, deadline for the submission of written comments. DOE has received requests from the public for extension of the public comment period. In response to those requests and other considerations, DOE is extending the comment period to September 19, 2016 to provide the public additional time for comment.

Issued in Washington, DC, on August 1, 2016.
Raymond Furstenau,
Associate Principal Deputy Assistant Secretary for Nuclear Energy, Office of Nuclear Energy.

[FR Doc. 2016-18657 Filed 8-4-16; 8:45 am]

BILLING CODE 6450-01-P